DEPARTMENT OF VETERANS AFFAIRS

Tiered Pharmacy Copayments for Medications; Calendar Year 2025 Update

AGENCY: Department of Veterans Affairs.

ACTION: Notice.

SUMMARY: This Department of Veterans Affairs (VA) notice updates the information on Tier 1 medications.

FOR FURTHER INFORMATION CONTACT: Tamara Wagner, Management Analyst, Office of Finance/Revenue Operations, Veterans Health Administration, Department of Veterans Affairs, 128 Bingham Road, Suite 1000, Asheville, NC 28806; telephone 970-242-0731, extension 2219. (This is not a toll-free telephone number.)

SUPPLEMENTARY INFORMATION: Section 17.110 of title 38, Code of Federal Regulations (CFR), governs copayments for medications that VA provides to veterans. Section 17.110 provides the methodologies for establishing the copayment amount for each 30-day or less supply of medication provided by VA on an outpatient basis (other than medication administered during treatment).

Tier 1 medication means a multi-source medication that has been identified using the process described in 38 CFR 17.110(b)(1)(iv)(A)(1)(i) and (ii). Not less than once per year, VA will identify a subset of multi-source medications as Tier 1 medications. Only medications that meet all the criteria in 38 CFR 17.110(b)(2)(i), (ii), and (iii) will be eligible to be considered Tier 1 medications, and only those medications that meet all the criteria in 38 CFR 17.110(b)(2)(i) will be assessed using the criteria in paragraphs (b)(2)(ii) and (iii).

Based on the methodologies set forth in § 17.110, this notice updates the list of Tier 1 medications for Calendar Year 2025. The Tier 1 medication list is posted on VA's website at the following link: https://www.va.gov/resources/va-tier-1-copay-medication-list/.

The following table is the Tier 1 Copay Medication List that is effective

January 1, 2025, and will remain in effect until December 31, 2025.

Condition | VA product name
Arthritis and Pain | Aspirin buffered tablet, Aspirin chewable tablet, Aspirin enteric coated tablet, Allopurinol tablet, Celecoxib capsule, Diclofenac tablet, Ibuprofen tablet, Meloxicam tablet, Naproxen tablet.
Blood Thinners and Platelet Inhibitors | Clopidogrel Bisulfate tablet.
Cholesterol | Atorvastatin tablet, Ezetimibe tablet, Fenofibrate capsule or tablet, Pravastatin tablet, Rosuvastatin Calcium (CA) tablet, Simvastatin tablet.
Dementia | Donepezil tablet.
Diabetes | Glipizide tablet, Metformin Hydrochloride HCL tablet, Metformin HCL 24-hour Sustained Action (SA) tablet, Pioglitazone HCL tablet.
Electrolyte Supplement | Potassium SA tablet, Potassium SA dispersible tablet.
Gastrointestinal Health | Famotidine tablet, Omeprazole Enteric-Coated (EC) capsule, Pantoprazole Sodium capsule.
Glaucoma and Eye Care | Carboxymethylcellulose Sodium solution, Diclofenac solution, Latanoprost 0.005% solution, Polyethylene Glycol Solution.
Heart Health and Blood Pressure | Amiodarone tablet, Amlodipine tablet, Aspirin (see Arthritis & Pain), Atenolol tablet, Carvedilol tablet, Chlorthalidone tablet, Clonidine tablet, Diltiazem 24-hour capsule, Diltiazem HCL tablet, Furosemide tablet, Hydralazine HCL tablet, Hydrochlorothiazide tablet/capsule, Hydrochlorothiazide/Lisinopril tablet, Hydrochlorothiazide/Losartan tablet, Hydrochlorothiazide/Triamterene tab/cap, Isosorbide Mononitrate SA tablet, Lisinopril tablet, Losartan tablet, Metoprolol Succinate SA tablet, Metoprolol Tartrate tablet, Nifedipine SA capsule, Nitroglycerin sublingual tablet, Prazosin HCL capsule, Propranolol HCL tablet, Spironolactone tablet, Valsartan.
Hormones/Other | Alendronate tablet.
Mental Health | Amitriptyline HCL tablet, Buspirone HCL tablet, Bupropion HCL tablet, Bupropion HCL SA (12 hour-SR) tablet, Bupropion HCL SA (24 hour-XL) tablet, Citalopram Hydrobromide tablet, Duloxetine HCL EC capsule, Fluoxetine tablet/capsule, Memantine, Mirtazapine tablet, Paroxetine tablet, Quetiapine Immediate Relief (IR) Tablet, Sertraline HCL tablet, Trazodone tablet, Venlafaxine HCL IR tablet, Venlafaxine HCL SA capsule.
Neurologic Disorders | Ropinirole tablet.
Respiratory Condition | Montelukast Sodium tablet.
Seizures | Gabapentin capsule, Lamotrigine tablet, Topiramate tablet.
Thyroid Conditions | Levothyroxine Sodium tablet.
Urologic (Bladder and Prostate) Health | Doxazosin Mesylate tablet, Finasteride tablet, Oxybutynin Chloride IR tablet, Oxybutynin Chloride SA tablet, Sildenafil tablet, Tadalafil tablet, Tamsulosin HCL capsule, Terazosin HCL capsule.

Signing Authority: Douglas A. Collins, Secretary of Veterans Affairs, approved and signed this document on February 18, 2025, and authorized the undersigned to sign and submit the document to the Office of the Federal Register for publication electronically as an official document of the Department of Veterans Affairs.

Jeffrey M. Martin,
Assistant Director, Office of Regulation Policy & Management, Office of General Counsel, Department of Veterans Affairs.

[FR Doc. 2025-03845 Filed 3-10-25; 8:45 am]

BILLING CODE 8320-01-P